FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW.,Washington, DC 20503.

Final approval under OMB delegated authority of the extension for three years, with revision, of the following reports:

1. Report title: Consolidated Financial Statements for Holding Companies.

Agency form number: FR Y-9C.

OMB control number: 7100-0128.

Frequency: Quarterly.

Reporters: Holding companies (HCs).

Estimated annual reporting hours: FR Y-9C (non Advanced Approaches HCs): 220,366 hours; FR Y-9C (Advanced Approaches Bank Holding Companies (BHCs)): 2,404 hours.

Estimated average hours per response: FR Y-9C (non Advanced Approaches HCs): 48.84 hours; FR Y-9C (Advanced Approaches BHCs): 50.09 hours.

Number of respondents: FR Y-9C (non Advanced Approaches HCs): 1,128; FR Y-9C (Advanced Approaches BHCs): 12.

General description of report: This information collection is authorized pursuant by Section 5(c) of the Bank Holding Company Act [12 U.S.C. 1844(c)]. In addition, 12 U.S.C. 1467a(b)(2)(A) and 1850a(c)(1)(A) authorize the Federal Reserve to require that SLHCs and supervised securities holding companies also file the FR Y-9 series of reports with the Federal Reserve. Overall, the Federal Reserve does not consider the financial data in these reports to be confidential. However, a respondent may request confidential treatment pursuant to sections (b)(4), (b)(6), and (b)(8) of the Freedom of Information Act (FOIA) (5 U.S.C. 552(b)(4), (b)(6), and (b)(8)). The applicability of these exemptions would need to be reviewed on a case by case basis.

Abstract: The FR Y-9 family of reporting forms continues to be the primary source of financial data on HCs that examiners rely on in the intervals between on-site inspections and off-site assessments through the Small Bank Holding Company Supervision Program. Financial data from these reporting forms are used to detect emerging financial problems, to review performance and conduct pre-inspection analysis, to monitor and evaluate capital adequacy, to evaluate HC mergers and acquisitions, and to analyze an HC's overall financial condition to ensure the safety and soundness of its operations.

The FR Y-9C consists of standardized financial statements similar to the Federal Financial Institutions Examination Council (FFIEC) Consolidated Reports of Condition and Income (Call Reports) (FFIEC 031 & 041; OMB No. 7100-0036) filed by commercial banks. It collects consolidated data from HCs, and is filed by top-tier HCs with total consolidated assets of $500 million or more.¹

¹ Under certain circumstances described in the General Instructions, HCs with assets under $500 million may be required to file the FR Y-9C.

Current actions: On January 28, 2014, the Federal Reserve published a notice in the Federal Register (79 FR 4468) requesting public comment for 60 days on the extension, with revision, of the FR Y-9C. The comment period for this notice expired on March 31, 2014. The Federal Reserve did not receive any comments. The revision will be implemented as proposed.

2. Report title: Payments Systems Surveys: Ad Hoc Payments Systems Survey (FR 3054a) and the Currency Functionality Survey (FR 3054d).

Agency form numbers: FR 3054a and FR 3054d.

OMB control number: 7100-0332.

Frequency: On occasion and annually.

Reporters: Financial, institutions (or depository institutions), individuals, law enforcement and nonfinancial businesses (banknote equipment manufacturers, or global wholesale bank note dealers).

Estimated annual reporting hours: 11,500 hours.

Estimated average hours per response: FR 3054a: 0.75 hours; FR 3054d: 2.5 hours.

Number of respondents: FR 3054a: 12,000; and FR 3054d: 250.

General description of report: This information collection is authorized pursuant to Section 11(d) of the Federal Reserve Act (12 U.S.C. 248(d)). The obligation to respond to the FR 3054a and FR 3054d is voluntary. Because survey questions may differ from survey to survey, it is difficult to determine whether the information collected will be considered confidential. However, information may be exempt from disclosure under exemption 4 of the FOIA, 5 U.S.C. 552(b)(4), if disclosure would likely have the effect of (1) impairing the government's ability to obtain the necessary information in the future, or (2) causing substantial harm to the competitive position of the respondent. Additionally, should survey responses contain any information of a private nature the disclosure of which would constitute “a clearly unwarranted invasion of personal privacy,” such information may be exempt from disclosure under exemption 6, 5 U.S.C. 552(b)(6). Confidentiality matters should be treated on a case-by-case basis to determine if any of the above exemptions apply.

Abstract: The FR 3054a is an event-driven survey used to obtain information specifically tailored to the Federal Reserve's operational and fiscal agency responsibilities. The FR 3054a may be conducted independently by the Federal Reserve or jointly with another government agency, a Reserve Bank, or a private firm. The FR 3054d is an annual survey used to assess the functionality of Federal Reserve notes in banknote handling equipment. The data collected from the FR 3054d are used as inputs for future designs of Federal Reserve notes. The FR 3054d may be conducted jointly with the U.S. Treasury's Bureau of Engraving and Printing, and the CTO.

Current actions: On January 28, 2014, the Federal Reserve published a notice in the Federal Register (79 FR 4468) requesting public comment for 60 days on the extension, with revision, of the FR 3054a and FR 3054d. The comment period for this notice expired on March 31, 2014. The Federal Reserve did not receive any comments. The revision will be implemented as proposed.

Proposal to approve under OMB delegated authority the extension for three years, without revision, of the following reports:

1. Report title: Annual Daylight Overdraft Capital Report for U.S. Branches and Agencies of Foreign Banks.

Agency form number: FR 2225.

OMB control number: 7100-0216.

Frequency: Annually.

Reporters: Foreign banking organizations (FBO).

Estimated annual reporting hours: 51 hours.

Estimated average hours per response: 1 hour.

Number of respondents: 51.

General description of report: This information collection is authorized pursuant by sections 11(i), 16, and 19(f) of the Federal Reserve Act (12 U.S.C. 248(i), 248-1 and 464). An FBO is required to respond in order to obtain or retain a benefit, i.e., in order for the U.S. branch or agency of an FBO to establish and maintain a non-zero net debit cap. The information submitted by respondents is not confidential; however, respondents may request confidential treatment for portions of the report. Data may be considered confidential and exempt from disclosure under section (b)(4) of the FOIA if it constitutes commercial or financial information and public disclosure could result in substantial competitive harm to the submitting institution (5 U.S.C. 552(b)(4)).

Abstract: This report was implemented in March 1986 as part of the procedures used to administer the Federal Reserve's Payment System Risk (PSR) policy. A key component of the PSR policy is a limit, or a net debit cap, on an institution's negative intraday balance in its Reserve Bank account. The Federal Reserve calculates an institution's net debit cap by applying the multiple associated with the net debit cap category to the institution's capital. For FBOs, a percentage of the FBO's capital measure, known as the U.S. capital equivalency, is used to calculate the FBO's net debit cap. FBOs that wish to establish a positive net debit cap and have a strength of support assessment (SOSA) 1 or SOSA 2 ranking or hold a financial holding company (FHC) designation are required to submit the FR 2225 to their Administrative Reserve Bank (ARB).²,³

² The Administrative Reserve Bank is responsible for managing an institution's account relationship with the Federal Reserve.

³ Most FBOs that are ranked SOSA 3 do not qualify for a positive net debit cap. In the event a Reserve Bank grants a net debit cap or extends intraday credit to a financially healthy SOSA 3-ranked FBO, the financially healthy SOSA 3-ranked FBOs will have their U.S. capital equivalency based on their “Net due to related depository institutions” as reported on the Report of Assets and Liabilities of U.S. Branches and Agencies of Foreign Banks (FFIEC 002), Schedule RAL, Item 5.a, Column A, for the most recent quarter.

Current Actions: On January 28, 2014, the Federal Reserve published a notice in the Federal Register (79 FR 4468) requesting public comment for 60 days on the extension, without revision, of the FR 2225. The comment period for this notice expired on March 31, 2014. The Federal Reserve did not receive any comments.

2. Report title: Report of Net Debit Cap.

Agency form number: FR 2226.

OMB control number: 7100-0217.

Frequency: Annually.

Reporters: Depository institution's board of directors.

Estimated annual reporting hours: 1,158 hours.

Estimated average hours per response: 1 hour.

Number of respondents: De Minimis Cap: 1,016; Self-Assessment Cap: ⁴ 139; Maximum Daylight Overdraft Capacity: 3.

⁴ Self-assessment cap figures do not include those self-assessed cap respondents with maximum daylight overdraft capacity.

General description of report: This information collection is authorized pursuant to sections 11, 16, and 19 of the Federal Reserve Act (12 U.S.C. 248(i), 248-1 and 464) authorize the Board to require the FR 2226 resolutions. Disclosure of information collected on the FR 2226 would likely cause substantial harm to the competitive position of the respondent institution. Therefore, the FR 2226 is exempt from disclosure under exemption (b)(4) of the FOIA, which exempts from disclosure “trade secrets and commercial or financial information obtained from a person and privileged or confidential.” (5 U.S.C. 552(b)(4)). In addition, information reported in connection with the second and third resolutions may be protected under section (b)(8) of FOIA, to the extent that such information is based on the institution's CAMELS rating, and thus is related to examination reports prepared by, on behalf of, or for the use of an agency responsible for the regulation or supervision of financial institutions (5 U.S.C. 552(b)(8)).

Abstract: Federal Reserve Banks collect these data annually to provide information that is essential for their administration of the Federal Reserve's PSR policy. The reporting panel includes the subset of financially healthy depository institutions with access to the discount window that opt to request a De minis of self-assessed cap under the PSR Policy. The Report of Net Debit Cap comprises three resolutions, which are filed by a depository institution's board of directors depending on its needs. The first resolution is used to establish a de minimis net debit cap and the second resolution is used to establish a self-assessed net debit cap.⁵ The third resolution is used to establish simultaneously a self-assessed net debit cap and maximum daylight overdraft capacity. The PSR policy requires depository institutions to submit their resolutions annually, as of the date of the board of directors' approved resolution(s).

⁵ Institutions use these two resolutions to establish a capacity for daylight overdrafts above the lesser of $10 million or 20 percent of the institution's capital measure. Financially healthy U.S. chartered institutions that rarely incur daylight overdrafts in excess of the lesser of $10 million or 20 percent of the institution's capital measure do not need to file board of directors' resolutions or self-assessments with their Reserve Bank.

Current Actions: On January 28, 2014, the Federal Reserve published a notice in the Federal Register (79 FR 4468) requesting public comment for 60 days on the extension, without revision, of the FR 2226. The comment period for this notice expired on March 31, 2014. The Federal Reserve did not receive any comments.

3. Report title: The Parent Company Only Financial Statements for Large Holding Companies (FR Y-9LP), the Parent Company Only Financial Statements for Small Holding Companies (FR Y-9SP), the Financial Statements for Employee Stock Ownership Plan Holding Companies (FR Y-9ES), the Supplement to the Consolidated Financial Statements for Holding Companies (FR Y-9CS).

Agency form number: FR Y-9LP, FR Y-9SP, FR Y-9ES, FR-9CS.

OMB control number: 7100-0128.

Frequency: Quarterly, semi-annually, annually, and quarterly.

Reporters: Holding companies.

Estimated annual reporting hours: FR Y-9LP: 29,148 hours; FR Y-9SP (BHCs): 41,008 hours; FR Y-9SP (Savings and Loan Holding Companies (SLHCs)): 8,435 hours; FR Y-9SP (SLHCs one-time implementation): 148,500; ⁶ FR Y-9ES: 43 hours; FR-9CS: 472 hours.

⁶ Subsequent to initial Federal Register notice of January 28, 2014 (78 FR 4468), the Federal Reserve received approval to revise the FR Y-C and FR Y-9SP consistent with the regulatory capital rules approved by the Board of Governors on July 2, 2013. This revision resulted in a one-time implementation cost of 500 hours per respondent with a total increase of 148,500 hours for the FR Y-9SP.

Estimated average hours per response: FR Y-9LP: 5.25 hours; FR Y-9SP (BHCs): 5.40 hours; FR Y-9SP (SLHCs): 14.20 hours; FR Y-9SP (SLHCs one-time implementation) 500 hours; ⁶ FR Y-9ES: 0.50 hours; FR-9CS: 0.50 hours.

Number of respondents FR Y-9LP: 1,388; FR Y-9SP (BHCs): 3,797; FR Y-9SP (SLHCs): 297; FR Y-9ES: 86; FR-9CS: 236.

General description of report: This information collection is authorized pursuant by Section 5(c) of the Bank Holding Company Act [12 U.S.C. 1844(c)]. In addition, 12 U.S.C. 1467a(b)(2)(A) and 1850a(c)(1)(A) authorize the Federal Reserve to require that SLHCs and supervised securities holding companies also file the FR Y-9 series of reports with the Federal Reserve. Overall, the Federal Reserve does not consider the financial data in these reports to be confidential. However, a respondent may request confidential treatment pursuant to sections (b)(4), (b)(6), and (b)(8) of the Freedom of Information Act (FOIA) (5 U.S.C. 552(b)(4), (b)(6), and (b)(8)). The applicability of these exemptions would need to be reviewed on a case by case basis.

Abstract: The FR Y-9LP and FR Y-9SP serve as standardized financial statements for the consolidated HC and its parent; the FR Y-9ES is a financial statement for HCs that are Employee Stock Ownership Plans (ESOPs). The Board also has the authority to use the FR Y-9CS (a free-form supplement) to collect additional information deemed to be (1) critical and (2) needed in an expedited manner.

The FR Y-9 family of reporting forms continues to be the primary source of financial data on HCs that examiners rely on in the intervals between on-site inspections and off-site assessments through the Small Bank Holding Company Supervision Program. Financial data from these reporting forms are used to detect emerging financial problems, to review performance and conduct pre-inspection analysis, to monitor and evaluate capital adequacy, to evaluate HC mergers and acquisitions, and to analyze an HC's overall financial condition to ensure the safety and soundness of its operations.

Current Actions: On January 28, 2014, the Federal Reserve published a notice in the Federal Register (79 FR 4468) requesting public comment for 60 days on the extension, without revision, of the FR Y-9LP, FR Y-9SP, FR Y-9ES, and FR Y-9CS. The comment period for this notice expired on March 31, 2014. The Federal Reserve did not receive any comments.

4. Report title: Payments Systems Surveys: Currency Quality Sampling Survey (FR 3054b) and the Currency Quality Survey (FR 3054c).

Agency form numbers: FR 3054b and FR 3054c.

OMB control number: 7100-0332.

Frequency: Annually and semi-annually.

Reporters: Financial, institutions (or depository institutions) individuals, law enforcement and nonfinancial businesses (banknote equipment manufacturers, or global wholesale bank note dealers).

Estimated annual reporting hours: 1,590 hours.

Estimated average hours per response: FR 3054b: 0.5 hours and FR 3054c: 30 hours.

Number of respondents: FR 3054b: 180 and FR 3054c: 25.

General description of report: This information collection is authorized pursuant to Section 11(d) of the Federal Reserve Act (12 U.S.C. § 248(d)). The obligation to respond to the FR 3054b and FR 3054c is voluntary. Because survey questions may differ from survey to survey, it is difficult to determine whether the information collected will be considered confidential. However, information may be exempt from disclosure under exemption 4 of the Freedom of Information Act, 5 U.S.C. 552(b)(4), if disclosure would likely have the effect of (1) impairing the government's ability to obtain the necessary information in the future, or (2) causing substantial harm to the competitive position of the respondent. Additionally, should survey responses contain any information of a private nature the disclosure of which would constitute “a clearly unwarranted invasion of personal privacy,” such information may be exempt from disclosure under exemption 6, 5 U.S.C. 552(b)(6). Confidentiality matters should be treated on a case-by-case basis to determine if any of the above exemptions apply.

Abstract: The FR 3054b is an annual survey used to assess the quality of currency in circulation and may be conducted by the Federal Reserve, jointly with the Federal Reserve Bank of San Francisco's Cash Product Office (CPO), the Federal Reserve Bank of Richmond's Currency Technology Office (CTO), and each Reserve Bank's cash department. The FR 3054c is a semi-annual survey used to determine depository institutions' and Banknote Equipment Manufacturers' opinions of currency quality and may be conducted jointly with the CPO and CTO.

Current Actions: On January 28, 2014, the Federal Reserve published a notice in the Federal Register (79 FR 4468) requesting public comment for 60 days on the extension, without revision, of the FR 3064b and FR 3054c. The comment period for this notice expired on March 31, 2014. The Federal Reserve did not receive any comments.

Board of Governors of the Federal Reserve System, April 10, 2014.
Robert deV. Frierson,
Secretary of the Board.

[FR Doc. 2014-08528 Filed 4-14-14; 8:45 am]

BILLING CODE 6210-01-P